DEPARTMENT OF DEFENSE

Department of the Navy

Sealift Program, PM5; Tanker Government/Industry Monthly Meeting

AGENCY: Military Sealift Command, DoD.

ACTION: Announcement of monthly meetings.

SUMMARY: The Military Sealift Command (MSC) will be holding monthly meetings to partner with the commercial tanker industry. The intended effect of these meetings is to allow the commercial industry to be more cognizant of the Department of Defense (DoD) Petroleum, Oil, and Lubes (POL) Procurement Process.

DATES: The first meeting will be held on Tuesday, November 17, 2009 at 10 a.m.

The monthly meetings will continue to be held the third Tuesday of every month at 10 a.m. unless otherwise announced.

ADDRESSES: The first meeting will be held at MSC Headquarters, 914 Charles Morris Ct., SE., Washington Navy Yard, DC 20398.

For future meetings, attendees may request the exact meeting room by contacting one of the contacts under FOR FURTHER INFORMATION CONTACT one week prior to each meeting.

FOR FURTHER INFORMATION CONTACT: Technical Contact: John Joerger, 202-685-6305, john.joerger@navy.mil.

Contracting Contact: Ken Allen, 202-685-5825, kenneth.allen@navy.mil.

Dated: November 4, 2009.
Mitchell S. Bryman,
Alternate OSD Federal Register Liaison Officer, Department of Defense.

[FR Doc. E9-26914 Filed 11-6-09; 8:45 am]

BILLING CODE 5001-06-P